DEPARTMENT OF COMMERCE

Foreign-Trade Zones Board

[Docket 20-2001]

Foreign-Trade Zone 35—Philadelphia, Pennsylvania, Area Application For Expansion

An application has been submitted to the Foreign-Trade Zones (FTZ) Board (the Board) by the Philadelphia Regional Port Authority, grantee of Foreign-Trade Zone 35, requesting authority to expand its zone to include the Philadelphia International Airport fuel system and related facilities within the Philadelphia Customs port of entry. The application was submitted pursuant to the provisions of the Foreign-Trade Zones Act, as amended (19 U.S.C. 81a-81u), and the regulations of the Board (15 CFR part 400). It was formally filed on May 1, 2001.

FTZ 35 was approved on March 24, 1978 (Board Order 128, 43 FR 14531, 4/6/78) and expanded on August 21, 1980 (Board Order 162, 45 FR 58388, 9/3/80) and on December 29, 1993 (Board Order 678, 59 FR 1372, 1/10/94). The zone project currently consists of seven sites in the Philadelphia area: Site 1 (176,541 sq. ft.)—located at Pier 78 South, Philadelphia; Site 2 (24 acres)—located at Pier 98 South Annex, Philadelphia; Site 3 (341,000 sq. ft.)—consisting of Piers 38 and 40, Philadelphia; Site 4 (35 acres)—Penn Terminals Complex, One Saville Avenue, Eddystone; Site 5 (19 acres)—warehouse complex located at 3033 S. 63rd Street, Philadelphia; Site 6 (32 acres)—Publicker Site, located at 2937 Christopher Columbus Boulevard, Philadelphia; and, Site 7 (2 acres)—American Foodservice Corporation's cold storage facility, located at 400 Drew Court, King of Prussia.

The applicant is now requesting authority to expand the general-purpose zone to include the jet fuel storage and distribution system (approx. 7 acres) at the Philadelphia International Airport in Philadelphia and Tinicum Township, Pennsylvania. The site consists of jet fuel storage tanks (130,000 barrels), pipelines, and other facilities and structures for loading and unloading fuel. The facility is owned by the City of Philadelphia. The jet fuel system activity is currently handled by Aircraft Service International, Inc.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is July 6, 2001. Rebuttal comments in response to material submitted during the foregoing period may be submitted during the subsequent 15-day period (to July 23, 2001).

A copy of the application and accompanying exhibits will be available for public inspection at each of the following locations: U.S. Department of Commerce, Export Assistance Center, The Curtis Center, Suite 580 West, 6th & Walnut Streets, Philadelphia, PA 19106; Office of the Executive Secretary, Foreign-Trade Zones Board, Room 4008, U.S. Department of Commerce, 14th & Pennsylvania Avenue, NW., Washington, DC 20230.

Dated: May 1, 2001.
Dennis Puccinelli,
Executive Secretary.

[FR Doc. 01-11433 Filed 5-4-01; 8:45 am]

BILLING CODE 3510-DS-P